DEPARTMENT OF THE TREASURY

Submission for OMB Review; Comment Request

April 18, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before May 24, 2006 to be assured of consideration.

Internal Revenue Service (IRS)

OMB Number: 1545-0957.

Type of Review: Extension.

Title: Request for Waiver from Filling Information Returns Electronically/Magnetically (Forms W-2, W-2G, 1042-1098 Series, 1099 Series, 5498 Series, and 8027.

Form: IRS F-8508.

Description: Certain filers of information returns are required by law to file on magnetic media. In some instances, waivers from this requirement are necessary and justified. Form 8508 is submitted by the filer and provides information on which IRS will base its waiver determination.

Respondents: Business or other for-profit; Not-for-profit institutions; Farms; Federal Government; State, Local or Tribal Government.

Estimated Total Burden Hours: 750 hours.

OMB Number: 1545-1233.

Type of Review: Extension.

Title: Adjusted Current Earnings (IA-14-91) (Final).

Description: This regulation affects business and other for-profit institutions. This information is required by the IRS to ensure the proper application of section 1.56(g)-1 of the regulation. It will be used to verify that taxpayers have properly elected the benefits of section 1.56(g)-1(r) of the regulation.

Respondents: Business or other for-profit.

Estimated Total Burden Hours: 1,000 hours.

OMB Number: 1545-1810.

Type of Review: Extension.

Title: Credit for Small Employer Pension Plan Startup Costs.

Form: IRS F-8881.

Description: Qualified small employers use Form 8881 to request a credit for start up costs related to eligible retirement plans. Form 8881 implements section 45E, which provides a credit based on costs incurred by an employer in establishing or administering an eligible employer plan or for the retirement-related education of employees with respect to the plan. The credit is 50% of the qualified costs for the tax year, up to a maximum credit of $500 for the first tax year and each of the two subsequent tax years.

Respondents: Business or other for-profit.

Estimated Total Burden Hours: 526,670 hours.

OMB Number: 1545-1815.

Type of Review: Extension.

Title: Coverdell ESA Contribution Information.

Form: IRS F-5498-ESA.

Description: Form 5498-ESA is used by trustees and issuers of Coverdell Education Savings accounts to report contributions made to these accounts to beneficiaries.

Respondents: Business or other for-profit.

Estimated Total Burden Hours: 18,000 hours.

OMB Number: 1545-1824.

Type of Review: Extension.

Title: REG-139768-02 (Final) Excise Tax Relating to Structured Settlement Factoring Transactions.

Description: The regulations provide rules relating to the manner and method of reporting and paying the 40 percent excise tax imposed by section 5891 of the Internal Revenue Code with respect to acquiring of structured payment rights.

Respondents: Individuals or households and Business or other for-profit.

Estimated Total Burden Hours: 2 hours.

OMB Number: 1545-1980.

Type of Review: Extension.

Title: Notice 2006-01, Charitable Contributions of Certain Motor Vehicles, Boats and Airplanes. Reporting Requirements under 170(f)(12)(D).

Description: Charitable organizations are required to send an acknowledgment of car donations to the donor and to the Service. The purpose of this is to prevent donors from taking inappropriate deductions.

Respondents: Individuals or households and Not-for-profit institutions.

Estimated Total Burden Hours: 21,500 hours.

Clearance Officer: Glenn P. Kirkland, (202) 622-3428. Internal Revenue Service, Room 6516, 1111 Constitution Avenue, NW., Washington, DC 20224.

OMB Reviewer: Alexander T. Hunt, (202) 395-7316. Office of Management and Budget, Room 10235, New Executive Office Building, Washington, DC 20503.

Robert Dahl,
Treasury PRA Clearance Officer.

[FR Doc. E6-6084 Filed 4-21-06; 8:45 am]

BILLING CODE 4830-01-P